DEPARTMENT OF JUSTICE

Antitrust Division

Notice Pursuant to the National Cooperative Research and Production Act of 1993—Digital Imaging Group, Inc.

Notice is hereby given that, on May 4, 2000, pursuant to Section 6(a) of the National Cooperative Research and Production Act of 1993, 15 U.S.C. 4301 et seq. (“the Act”), Digital Imaging Group, Inc. has filed written notifications simultaneously with the Attorney General and the Federal Trade Commission disclosing changes in its membership status. The notifications were filed for the purpose of extending the Act's provisions limiting the recovery of antitrust plaintiffs to actual damages under specified circumstances. Specifically, Ofoto, Berkeley, CA; PhotoTablet, Inc., Sebastopol, CA; The Workbook, Los Angeles, CA; Amazingmail.com, Inc., Scottsdale, AZ; House of Images, Inc., Beverly Hills, CA; Kablink, Sand Diego, CA; Pixami, Inc., San Ramon, CA; EZ Prints, Atlanta, GA; Zing, Inc., San Francisco, CA; and Fileflow As, Oslo, Norway have been added as parties to this venture. Also, Intellectual Protocols, Nannet, NY; Norwegian University of Science and Technology, Trundheim, Norway; Ditto.com (formerly Arribasoft), Emeryville, CA; and Tower Semiconducter Ltd., Migdal Haemek, Israel have been dropped as parties to this venture.

No other changes have been made in either the membership or planned activity of the group research project. Membership in this group research project remains open, and Digital Imaging Group, Inc. intends to file additional written notification disclosing all changes in membership.

On September 25, 1997, Digital Imaging Group, Inc. filed its original notification pursuant to Section 6(a) of the Act. The Department of Justice published a notice in the Federal Register pursuant to Section 6(b) of the Act on November 10, 1997 (62 FR 60530).

The last notification was filed with the Department on February 11, 2000. A notice was published in the Federal Register pursuant to Section 6(b) of the Act on June 29, 2000 (64 FR 40129).

Constance K. Robinson,
Director of Operations, Antitrust Division.

Joint Venture Worksheet
[Supplemental Filings Only]
A. Name of venture: Digital Imaging group, Inc.
Nature of notification: supplemental
Concise statement of purpose (if purpose has changed): Same as before—no changes.
B. For ventures involving research and development only:
Identity of parties added to venture: | Identity of parties dropped from venture:
1. Ofoto, Berkely, CA | 1. Intellectual Protocols, Nannet, NY.
2. PhotoTablet, Inc., Sebastopol, CA | 2. Norwegian University of Science and Technology, Trundheim, NORWAY.
3. The Workbook Lose Angeles, CA | 3. Ditto.com (formerly Arribasoft), Emeryville, CA.
4. Amazingmail.com, Inc., Scottsdale, AZ | 4. Tower Semiconducter Ltd., Migdal Haemek, ISRAEL.
5. House of Images, Inc., Beverly Hills, CA.
6. Kablink, San Diego, CA.
7. Pixami, Inc., San Ramon, CA.
8. EZ Prints, Atlanta, GA.
9. Zing, Inc., San Francisco, CA.
10. Fileflow As, Oslo, NORWAY.

[FR Doc. 00-19388 Filed 7-31-00; 8:45 am]

BILLING CODE 4410-11-M